NATIONAL SCIENCE FOUNDATION

Special Emphasis Panel in Physics; Notice of Meeting

In accordance with the Federal Advisory Committee Act (Pub. L. 92-463, as amended), the National Science Foundation announces the following meeting:

Name: Special Emphasis Panel in Physics (1208).

Date/Time: October 11-12, 2000 8 a.m. to 5 p.m.

Place: National Superconducting Cyclotron Laboratory at Michigan State University.

Type of Meeting: Closed.

Contact Person: Dr. Bradley D. Keister, Program Director for Nuclear Physics, Room 1015N, National Science Foundation, 4201 Wilson Blvd., Arlington, VA 22230. (703) 292-7377.

Purpose of Meeting: To conduct a Technical Review of the Coupled Cyclotron Project.

Agenda: To hear presentations and write recommendations concerning the Coupled Cyclotron Project.

Reason for Closing: The proposals being reviewed include information of a proprietary or Confidential nature, including technical information; information on personnel and proprietary data for Present and future subcontracts. These matters are exempt under 5 U.S.C. 552b(c), (4) and (6) of the Government in the Sunshine Act.

Dated: September 7, 2000.
Karen J. York,
Committee Management Officer.

[FR Doc. 00-23489 Filed 9-12-00; 8:45 am]

BILLING CODE 7555-01-M